DEPARTMENT OF TRANSPORTATION

Office of the Secretary

Aviation Proceedings, Agreements Filed the Week Ending June 2, 2006

The following Agreements were filed with the Department of Transportation under the sections 412 and 414 of the Federal Aviation Act, as amended (49 U.S.C. 1382 and 1384) and procedures governing proceedings to enforce these provisions. Answers may be filed within 21 days after the filing of the application.

Docket Number: OST-2006-24991.

Date Filed: June 2, 2006.

Parties: Members of the International Air Transport Association.

Subject:

CSC/28/Meet/005/06 dated June 1, 2006.

Finally Adopted Resolutions: 621/622.

Intended effective date: October 1, 2006.

Renee V. Wright,
Program Manager, Docket Operations, Federal Register Liaison.

[FR Doc. E6-9954 Filed 6-22-06; 8:45 am]

BILLING CODE 4910-9X-P